DEPARTMENT OF ENERGY

Federal Energy Regulatory Commission

[Project Nos. 2808-011; 2809-026; 3562-020; 4202-020; 11132-025; 11472-057; 11482-027; 11566-017]

Ridgewood Maine Hydro Partners, L.P.; KEI (Maine) Power Management (I) LLC; KEI (Maine) Power Management (II) LLC; KEI (Maine) Power Management (III) LLC; KEI (Maine) Power Management (IV) LLC; Notice of Application for Transfer of Licenses, and Soliciting Comments and Motions To Intervene

August 18, 2009.

On July 30, 2009, Ridgewood Maine Hydro Partners, L.P. (Transferor) and KEI (Maine) Power Management (I) LLC, KEI (Maine) Power Management (II) LLC, KEI (Maine) Power Management (III) LLC, and KEI (Maine) Power Management (IV) LLC, all wholly owned subsidiaries of KEI (USA) Power Management Inc. (Transferees) filed an application for transfer of licenses for the:

Lower Barker Mill Project located on the Little Androscoggin River in Androscoggin County; American Tissue Dam Project located on the Cobbosseecontee Stream, in Kennebec County; Upper Barker Mill Project located on the Little Androscoggin River in Androscoggin County; Lowell Tannery Project located on the Passadumkeag River, Penobscot County; Eustis Project located on the North Branch of the Dead River, Franklin County; Burnham Project located on the Sebasticook River, Somerset and Waldo Counties; Marcal Project located on the Little Androscoggin River in Androscoggin County; and Damariscotta Project located on the Damariscotta River, Lincoln County. These projects are located in the state of Maine.

Applicants seek Commission approval to transfer the licenses for the Lower Barker Mill, American Tissue Dam, Upper Barker Mill, Lowell Tannery, Eustis, Burnham, Marcal, and Damariscotta Projects from the Transferor to the Transferees.

Applicant Contact: Transferor: Ms. Maria Haggerty, Ridgewood Maine Hydro Partners, L.P., c/o Ridgewood Power Corporation, 977 Linwood Avenue, Ridgewood, NJ 07450, phone (201) 447-9000. Transferee: KEI (USA) Power Management, Inc., Mr. Guy Paquette, Kruger Energy, Inc., 3285 Bedford Road, Montreal, Quebec H3S 1 5, phone (514) 343-3247.

FERC Contact: Patricia W. Gillis, (202) 502-8735.

Deadline for filing comments and motions to intervene: 15 days from the issuance of this notice. Comments and motions to intervene may be filed electronically via the Internet. See 18 CFR 385.2001(a)(1)(iii)(2008) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the eLibrary link of Commission's Web site at http://www.ferc.gov/docs-filing/elibrary.asp. Enter the docket numbers (Project Nos. 2808-011, 2809-026, 3562-020, 4202-020, 11132-025, 11472-057, 11482-027, and 11566-017) in the docket number field to access the document. For assistance, call toll-free 1-866-208-3372.

Kimberly D. Bose,
Secretary.

[FR Doc. E9-20368 Filed 8-24-09; 8:45 am]

BILLING CODE 6717-01-P